ENVIRONMENTAL PROTECTION AGENCY

[EPA-HQ-OAR-2010-0690; FRL-9270-3]

Agency Information Collection Activities; Submission to OMB for Review and Approval; Comment Request; EPA's Light-Duty In-Use Vehicle and Engine Testing Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before March 25, 2011.

ADDRESSES: Submit your comments, referencing Docket ID No. EPA-HQ-OAR-2010-0690, to (1) EPA online using www.regulations.gov (our preferred method), or by mail to: EPA Docket Center, Environmental Protection Agency, Air and Radiation Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lynn Sohacki, Compliance and Innovative Strategies Division, Office of Transportation and Air Quality, Environmental Protection Agency, 2000 Traverwood, Ann Arbor, Michigan 48105; telephone number: 734-214-4851; fax number: 734-214-4869; e-mail address: sohacki.lynn@epa.gov.

SUPPLEMENTARY INFORMATION: EPA has submitted the following ICR to OMB for review and approval according to the procedures prescribed in 5 CFR 1320.12. On August 25, 2010 (75 FR 52326), EPA sought comments on this ICR pursuant to 5 CFR 1320.8(d). EPA received no comments. Any additional comments on this ICR should be submitted to EPA and OMB within 30 days of this notice.

EPA has established a public docket for this ICR under Docket ID No. EPA-HQ-OAR-2010-0690, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's In-Use Vehicle and Engine Testing Programs (Renewal)

ICR numbers: EPA ICR No. 0222.09, OMB Control No. 2060-0086.

ICR Status: This ICR is scheduled to expire on February 28, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has an ongoing program to evaluate the emission performance of in-use light-duty (passenger car and light truck) motor vehicles. This program operates in conjunction with testing of prototype vehicles prior to use (manufacturer and EPA confirmatory testing for certification) and the mandatory manufacturer's in-use testing program (IUVP) for light-duty vehicles. They derive from the Clean Air Act's charge that EPA insure that motor vehicles comply with emissions requirements throughout their useful lives. The primary purpose of the program is information gathering. Nevertheless, EPA can require a recall if it receives information, from whatever source, including in-use testing, that a “substantial number” of any class or category of vehicles or engines, although properly maintained and used, do not conform to the emission standards, when in actual use throughout their useful life.

The program can be broken down into three closely-related headings. The first is a surveillance program that selects approximately 50 classes of passenger cars and light trucks for in-use testing, at EPA's testing facility, totaling approximately 150 vehicles (three in each class on average). In rare cases surveillance testing may be followed by compliance testing (only four such classes in the last five years). The purpose of a compliance phase is to develop additional information related to test failures observed in a class during surveillance testing. The second heading is testing of a subset of approximately 35 vehicles from the surveillance recruitment for operation of on-board diagnostics (OBD) systems. The third category is special investigations involving testing of vehicles to address specific issues. The number of vehicles procured under this category varies widely from year to year, but this request asks for approval of the information burden corresponding to 25 such vehicles per year for the next three years.

Participation in the light-duty surveys, as well as the vehicle testing, is strictly voluntary. A group of 25 to 50 potential participants is identified from state vehicle registration records. They are asked to return a postcard indicating their willingness to participate and if so, to verify some limited vehicle information. Three of those who return the card are called and asked about a half dozen questions concerning vehicle condition, and operation and maintenance. Additional groups of potential participants may be contacted until a sufficient number of vehicles has been obtained. Owners verify the survey information when they deliver their vehicles to EPA, voluntarily provide maintenance records for copying, and receive a loaner car and/or a cash incentive.

Burden Statement: The annual public reporting and recordkeeping burden for this collection of information is estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Individual and fleet owners of motor vehicles and engines.

Estimated Number of Respondents: Approximately 4,285 owners/lessees receive EPA's solicitations to participate and approximately 164 do participate.

Frequency of Response: On Occasion.

Estimated Total Annual Hour Burden: 521.

Estimated Total Annual Cost: $11,295, including $0 annualized capital or O&M costs.

Changes in the Estimates: There is a decrease of 90 responses and 98 hours in the total estimated respondent burden compared with that identified in the ICR currently approved by OMB. This decrease is entirely due to removal of the heavy-duty and non-road portions of this ICR, which will henceforth be covered under a different information collection request (OMB Control Number 2060-0287).

Dated: February 16, 2011.
John Moses,
Director, Collection Strategies Division.

[FR Doc. 2011-4006 Filed 2-22-11; 8:45 am]

BILLING CODE 6560-50-P